DEPARTMENT OF TRANSPORTATION

Federal Aviation Administration

14 CFR Part 39

[Docket No. 2001-NM-204-AD; Amendment 39-12543; AD 2001-24-26]

RIN 2120-AA64

Airworthiness Directives; Airbus Model A300 B2 and B4, A300 B4-600 and B4-600R, and A310 Series Airplanes

AGENCY: Federal Aviation Administration, DOT.

ACTION: Final rule.

SUMMARY: This amendment adopts a new airworthiness directive (AD), applicable to certain Airbus Model A300 B2 and B4, A300 B4-600 and B4-600R, and A310 series airplanes, that requires modification of the terminal blocks of the starter feeder line of the auxiliary power unit (APU). This action is necessary to prevent slackness and subsequent overheat and arcing of certain wiring connections. This action is intended to address the identified unsafe condition.

DATES: Effective January 16, 2002.

The incorporation by reference of certain publications listed in the regulations is approved by the Director of the Federal Register as of January 16, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A300 B2 and B4, A300 B4-600 and B4-600R, and A310 series airplanes was published in the Federal Register on August 27, 2001 (66 FR 44990). That action proposed to require modification of the terminal blocks of the starter feeder line of the auxiliary power unit (APU).

Comments

Interested persons have been afforded an opportunity to participate in the making of this amendment. No comments were submitted in response to the proposal or the FAA's determination of the cost to the public.

Conclusion

The FAA has determined that air safety and the public interest require the adoption of the rule as proposed.

Cost Impact

The FAA estimates that 153 airplanes of U.S. registry will be affected by this AD. It will take approximately 1 to 3 work hours per airplane (depending on configuration) to accomplish the required actions, at an average labor rate of $60 per work hour. Based on these figures, the cost impact of the AD on U.S. operators is estimated to be $60 to $180 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption “ADDRESSES.”

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-24-26 Airbus Industrie: Amendment 39-12543. Docket 2001-NM-204-AD.

Applicability: The following airplanes, certificated in any category:

Table 1.—Applicability
Model | Excluding those airplanes modified per Airbus Modification 10212, or Airbus Service Bulletin
A300 B2 and B4 series airplanes | A300-24-0079, Revision 02, dated January 3, 2001.
A300 B4-600 and B4-600R series airplanes | A300-24-6034, Revision 03, dated April 6, 2001.
A310 series airplanes | A310-24-2045, Revision 05, dated April 6, 2001.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent slackness and subsequent overheat and arcing of certain wiring connections, accomplish the following:

Modification and Replacement

(a) Modify the terminal blocks (including a general visual inspection of the threaded portion of the lugs to detect damage, distortion, or elongation; measurement of stud dimensions; and re-identification of the terminal blocks), as specified by Table 2 of this AD. If any discrepancy is detected, prior to further flight, replace the terminal block with a new part in accordance with the applicable service bulletin. Table 2 follows:

Table 2.—Modification Requirements
For Model | Perform the modification in accordance with Airbus Service Bulletin | Prior to the times specified by paragraphs (i) and (ii), whichever occurs later, for each model
(1) A300 B2 and B4 series airplanes | A300-24-0079, Revision 02, dated January 3, 2001 | (i) The accumulation of 32,000 total flight cycles or 40,000 total flight hours, whichever occurs first.
|  | (ii) 3,600 flight cycles after the effective date of this AD.
(2) A300 B4-600 and B4-600R series airplanes | A300-24-6034, Revision 03, dated April 6, 2001 | (i) The accumulation of 26,000 total flight cycles or 40,000 flight hours, whichever occurs first.
|  | (ii) 3,600 flight cycles after the effective date of this AD.
(3) A310 series airplanes | A310-24-2045, Revision 05, dated April 6, 2001 | (i) The accumulation of 26,000 total flight cycles or 40,000 flight hours, whichever occurs first.
|  | (ii) 3,600 flight cycles after the effective date of this AD.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Note 3: Modification, prior to the effective date of this AD, in accordance with Airbus Service Bulletin A300-24-0079, dated March 15, 1993, or Revision 01, dated September 22, 1993 (for Model A300 B2 and B4 series airplanes); A300-24-6034, dated March 15, 1993, Revision 01, dated September 22, 1993; or Revision 02, dated September 7, 1994 (for Model A300 B4-600 and B4-600R series airplanes); or A310-24-2045, dated March 15, 1993, Revision 01, dated September 22, 1993, Revision 02, dated September 7, 1994, Revision 03, dated February 24, 1995, or Revision 04, dated November 24, 1995 (for Model A310 series airplanes); is acceptable for compliance with the requirements of paragraph (a) of this AD.

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Airbus Service Bulletin A300-24-0079, Revision 02, dated January 3, 2001; Airbus Service Bulletin A300-24-6034, Revision 03, dated April 6, 2001; or Airbus Service Bulletin A310-24-2045, Revision 05, dated April 6, 2001; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directive 2001-266(B), dated June 27, 2001.

Effective Date

(e) This amendment becomes effective on January 16, 2002.

Issued in Renton, Washington, on November 28, 2001.
Vi L. Lipski,
Manager, Transport Airplane Directorate, Aircraft Certification Service.

[FR Doc. 01-30202 Filed 12-11-01; 8:45 am]

BILLING CODE 4910-13-P